DEPARTMENT OF DEFENSE

Department of the Army

Environmental Impact Statement for Army Training Land Retention of State Lands at Kahuku Training Area, Poamoho Training Area, and Makua Military Reservation, Island of O`ahu, Hawai`i

AGENCY: Department of the Army; DoD.

ACTION: Notice of intent.

SUMMARY: In accordance with the National Environmental Policy Act (NEPA) 1969 and the Hawai`i Environmental Policy Act (HEPA), the Department of the Army (Army) is issuing this Notice of Intent to prepare an Environmental Impact Statement (EIS) to address the Army's proposed retention of up to approximately 6,300 acres of land currently leased to the Army by the State of Hawai`i (“State-owned lands”) on the island of O`ahu. Lease agreements between the State of Hawai`i and the Army at each of these three training areas were initiated in 1964 and expire in 2029. State-owned lands includes approximately 1,170 acres at Kahuku Training Area (KTA), approximately 4,370 acres at Poamoho Training Area (Poamoho), and approximately 760 acres at Makua Military Reservation (MMR). Training areas are utilized by Army units and other users such as the Marine Corps and Hawaii Army National Guard. Because the Proposed Action involves State-owned lands, the EIS will be a joint NEPA-HEPA document; therefore, the public scoping processes will run concurrently and will jointly meet NEPA and HEPA requirements. The EIS will evaluate the environmental impacts from implementing the proposed land retention.

DATES: The Army invites public comments on the scope of the EIS during a 40-day public scoping period. Comments must be received by September 1, 2021.

ADDRESSES: Please send written comments to the EIS website at: https://home.army.mil/hawaii/index.php/OAHUEIS. Alternatively, comments can be emailed to usarmy.hawaii.nepa@mail.mil, or mailed to: O`ahu ATLR EIS Comments, P.O. Box 3444, Honolulu, HI 96801-3444.

FOR FURTHER INFORMATION CONTACT: Please contact Amy Bugala, U.S. Army Garrison-Hawai`i (USAG-HI) Public Affairs Officer, at: (808) 656-3160 or by email to: usarmy.hawaii.comrel@mail.mil.

SUPPLEMENTARY INFORMATION: USAG-HI is home to the 25th Infantry Division (ID), and other commands, whose mission is to deploy to conduct decisive actions in support of unified land operations; the Division conducts continuous persistent engagement with regional partners to shape the environment and prevent conflict across the Pacific operational environment. On orders, these units may conduct theater-wide deployment to perform combat operations in support of U.S. Indo-Pacific Command (USINDOPACOM). The 25th ID is based out of Schofield Barracks on the island of O`ahu and trains on a rotational basis at various training areas, including KTA, Poamoho, and MMR.

Located in northeast O`ahu, KTA has been the site of military training since the mid-1950s. Current training activities on State-owned lands at KTA include high-density company-level helicopter training in a tactical environment, large-scale ground maneuver training, and air support training.

Located in the Ko`olau Mountains in north-central O`ahu, the Poamoho Training Area has been the site of military training since 1964 and provides ideal airspace with ravines and deep vegetation vital to realistic helicopter training.

Located in northwest O`ahu, MMR has been a site for military training for nearly 100 years. Tactical training at MMR began in 1941 after the surprise attack on Pearl Harbor and military exercises continue to this day. Current training activities on State-owned lands at MMR include maneuver training, the establishment and use of restricted airspace for unmanned aerial vehicle training, as well as wildfire suppression and security activities.

The purpose of land retention is to secure the long-term military use of State-owned parcels, for which current leases expire in 2029. The need to retain use of these training lands is to allow the military to continue to meet current and future training and combat readiness requirements on Army-managed lands in Hawai`i.

To understand the environmental consequences of the decisions to be made, the EIS will evaluate the reasonably foreseeable impacts of a range of potential alternatives that meet the purpose of and need for the Proposed Action. Alternatives to be considered include the No Action Alternative, (1) Full Retention, (2) Modified Retention, and (3) Minimum Retention and Access. The Proposed Action does not involve new training, construction, or resource management activities. Under Full Retention, the Army would retain all State-owned lands within each training area. Under Modified Retention, the Army would retain all State-owned lands within each training area except lands on which limited training occurs. Under Limited Retention and Access, the Army would retain the minimum amount of State-owned lands within each training area that is required for USARHAW to continue to meet its current ongoing training requirements. This includes the State-owned lands with the most vital training/support facilities, infrastructure, maneuver land, all U.S. Government-owned utilities, and access to these features. Other reasonable alternatives raised during the scoping process that meet the Army mission, project purpose, and need will also be considered for evaluation in the EIS.

An EIS-level analysis is being undertaken because the land retention action could have potentially significant impacts on environmental and social resource areas including biological resources, cultural resources, hazardous and toxic materials and wastes, socioeconomics, utilities, and human health and safety. The analysis in the EIS will determine the projected level of impact on each resource area.

The Army anticipates permits and authorizations may be required for the Proposed Action, including a lease from the State of Hawai`i Department of Land and Natural Resources (DLNR), National Historic Preservation Act and Hawai`i Historic Preservation Review consultation with the State Historic Preservation Officer, Endangered Species Act Section 7 consultation with the U.S. Fish and Wildlife Service, a Coastal Zone Management consistency determination from the Hawai`i State Office of Planning, and a Conservation District Use Permit applicability determination from the DLNR Office of Conservation and Coastal Lands.

The Draft EIS will be available in the summer of 2022. The Final EIS 2023, ROD spring 2024. The Final EIS and Record of Decision are estimated to be available within three years of this notice.

Native Hawaiian organizations; Federal, State, and local agencies; and the public are invited to be involved in the scoping process for the preparation of this EIS by participating in a scoping meeting and/or submitting written comments. The Army requests assistance with identifying potential alternatives to the Proposed Action to be considered and identification of information and analyses relevant to the Proposed Action. Written comments must be sent within 40 days of publication of the Notice of Intent in the Federal Register. In response to the coronavirus (COVID-19) pandemic in the United States and the Center for Disease Control's current recommendations for social distancing and avoiding large public gatherings, the Army may not hold in-person public scoping meetings for this action. In lieu of in-person public scoping meetings, the Army may provide virtual scoping opportunities that will include an online presentation and collaboration tools, as appropriate, and reasonable accommodations for the public to view information and provide oral or written comments subject to COVID-19 limitations. An EIS Scoping Virtual Open House will be held at Leilehua Golf Course (199 Leilehua Golf Course Rd., Wahiawa, HI 96786) on August 9 and 10, 2021 from 6 to 9 p.m. During the EIS Scoping Virtual Open House, video presentations describing the Proposed Action can be viewed online at: https://home.army.mil/hawaii/index.php/OAHUEIS and oral comments will be taken via an accompanying call-in option. Written comments will be accepted during the EIS Scoping Virtual Open House and throughout the duration of the 40-day scoping process through an online comment platform or by mail or email. Additional in-person public comment stations may be made available, subject to procedural compliance with governmental guidance and restrictions related to COVID-19. Notification of the EIS Scoping Virtual Open House and in-person public comment stations will also be published and announced in local news media outlets and on the EIS website: https://home.army.mil/hawaii/index.php/OAHUEIS. Hard copy scoping materials are available by making a request to Amy Bugala, USAG-HI Public Affairs Officer at (808) 656-3160 or by email to: usarmy.hawaii.comrel@mail.mil.

James W. Satterwhite Jr.,
Army Federal Register Liaison Officer.

[FR Doc. 2021-15666 Filed 7-22-21; 8:45 am]

BILLING CODE 5061-AP-P